DEPARTMENT OF ENERGY

Federal Energy Regulatory Commission

[Docket No. RP00-468-002]

Texas Eastern Transmission, LP; Notice of Errata Filing

August 31, 2001.

Take notice that on August 20, 2001, Texas Eastern Transmission, LP (Texas Eastern) submitted for filing Substitute Original Sheet No. 648 and Substitute Original Sheet No. 649 to be included in Pro Forma Seventh Revised Volume No. 1 in lieu of Original Sheet No. 648 and Original Sheet No. 649 which were filed on July 31, 2001, in compliance with Order No. 637, et seq., and in accordance with the Commission's suggestion in its June 12, 2001, letter order issued in Docket Nos. RP00-468-000 and RP01-25-000.

Texas Eastern states that a subsequent review of the scheduling and curtailment sequences for secondary transactions on Original Sheet No. 648 and Original Sheet No. 649 failed to address two potential transactions, from Secondary Receipt Points outside the Transportation Path to Primary Delivery points and from Secondary Points outside the Transportation Path to Secondary Points outside the Transportation Path. Texas Eastern states that Substitute Original Sheet No. 648 and Substitute Original Sheet No. 649 are being submitted to correct the scheduling and curtailment sequences.

Texas Eastern states that copies of the filing were mailed to all affected customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22492 Filed 9-6-01; 8:45 am]

BILLING CODE 6717-01-P